DEPARTMENT OF HOUSING AND URBAN DEVELOPMENT

[Docket No. FR-4727-N-02]

Real Estate Settlement Procedures Act (RESPA); Simplifying and Improving the Process of Obtaining Mortgages to Reduce Settlement Costs To Consumers; Notice of Availability of Economic Analysis and Correction of OMB E-mail Address

AGENCY: Office of General Counsel, HUD.

ACTION: Notice.

SUMMARY: Through this notice, HUD is advising the public that the Initial Economic Analysis that was prepared in connection with HUD's RESPA proposed rule, published on July 29, 2002, is available for review on HUD's Web site at www.hud.gov. In addition, this notice advises the public of a correction made to the e-mail address of the HUD Desk Officer at the Office of Management and Budget (OMB).

FOR FURTHER INFORMATION CONTACT: Ivy Jackson, Acting Director, Interstate Land Sales and RESPA Division, Room 9146, U.S. Department of Housing and Urban Development, 451 Seventh Street, SW., Washington, DC 20410; telephone (202) 708-0502 (this is not a toll-free number) or for legal questions Kenneth A. Markison, Assistant General Counsel for GSE/RESPA, or Steven J. Sacks or Teresa L. Baker (Senior RESPA Attorneys); Room 9262, telephone (202) 708-3137. Persons with hearing or speech impairments may access this number via TTY by calling the toll-free Federal Information Relay Service at (800) 877-8339. The address for the above listed persons is: Department of Housing and Urban Development, 451 Seventh Street, SW., Washington, DC 20410.

SUPPLEMENTARY INFORMATION: On July 29, 2002, HUD published its RESPA proposed rule on “Simplifying and Improving the Process of Obtaining Mortgages to Reduce Settlement Costs to Consumers.” (See 68 FR 49134.) In the rule, HUD advised that an Initial Economic Analysis had been prepared for the rule and that the Initial Economic Analysis is available for public inspection during business hours in the Office of the Rules Docket Clerk, Regulations Division, Office of General Counsel, Room 10276, Department of Housing and Urban Development, 451 Seventh Street, SW, Washington, DC 20410-0500. The Economic Analysis remains available for public inspection at this location, but for the convenience of the public, HUD has also placed the Initial Economic Analysis on its Web site at www.hud.gov.

In this notice, HUD also advises that the e-mail address for Lauren Wittenberg, HUD Desk Officer at OMB, contained an error (see 67 FR 49159, first column). The correct email address for Ms. Wittenberg is lauren_wittenberg@omb.eop.gov.

Dated: August 13, 2002.
Aaron Santa Anna,
Assistant General Counsel for Regulations.

[FR Doc. 02-21070 Filed 8-19-02; 8:45 am]

BILLING CODE 4210-67-P